INSTITUTE OF PEACE

Notice of Meeting

Date/Time: Wednesday, October 24, 2012 (9:00 a.m.-4:00 p.m.).

Location: 2301 Constitution Avenue NW., Washington, DC 20037.

Status: Open Session—Portions may be closed pursuant to Subsection (c) of Section 552(b) of Title 5, United States Code, as provided in subsection 1706(h)(3) of the United States Institute of Peace Act, Public Law 98-525.

Agenda: October 24, 2012 Board Meeting; Approval of Minutes of the One Hundred Forty-Fourth Meeting (July 19, 2012) of the Board of Directors; Chairman's Report; President's Report; Update on Management, Budget and Congress; Update on USIP Work in Syria, Afghanistan, Pakistan, Libya, Tunisia, Egypt and Iraq; Board Executive Session; Other General Issues.

Contact: Tessie F. Higgs, Executive Office, Telephone: (202) 429-3836.

Dated: October 4, 2012.
Michael Graham,
Senior Vice President for Management, United States Institute of Peace.

[FR Doc. 2012-25019 Filed 10-11-12; 8:45 am]

BILLING CODE 6820-AR-M